DEPARTMENT OF ENERGY

Federal Energy Regulatory Commission

[Project No. 2030-036]

Portland General Electric and the Confederated Tribes of the Warm Springs Reservation of Oregon; Notice of Meeting To Discuss Update on Pelton Round Butte Hydroelectric Project Collaborative Settlement Process

October 1, 2003.

a. Date and Time of Meeting: Wednesday, October 15, 2003 at 11 a.m. Eastern Daylight Saving Time.

b. Place: Federal Energy Regulatory Commission, 888 First Street, NE, Washington, DC.

c. FERC Contact: Nicholas Jayjack.

d. Purpose of Meeting: Portland General Electric has requested a meeting with Commission staff to update staff on the status of ongoing settlement talks and to request procedural advice regarding the Pelton Round Butte Hydroelectric Project. The project is located on the Deschutes River in north central Oregon.

e. Proposed Agenda: (1) Introduction of participants; (2) Portland General Electric presentation on the purpose of the meeting; (3) Discussion; and (4) Conclusion.

f. All local, state, and federal agencies, Indian tribes, and other interested parties are invited to participate. Please call Nicholas Jayjack at (202) 502-6073 by October 8, 2003, to RSVP and to receive instructions on how to participate in person or by phone.

Magalie R. Salas,
Secretary.

[FR Doc. E3-00005 Filed 10-6-03; 8:45 am]

BILLING CODE 6717-01-P